DEPARTMENT OF JUSTICE

National Institute of Corrections

Advisory Board Meeting

Time and Date: 8:30 a.m. to 5 p.m. on Monday, June 5, 2000 and 8 a.m. to 12 noon on Tuesday, June 6, 2000.

Place: On Monday, June 5—National Institute of Corrections Offices, 1960 Industrial Circle, Longmont, Colorado 80501. On Tuesday, June 6—Raintree Plaza Hotel and Conference Center, 1900 Ken Pratt Boulevard, Longmont, Colorado 80501.

Status: Open.

Matters To Be Considered: Tours/Presentations Concerning National Institute of Corrections Training Space, Information Center and Computer Lab; Report on Office of Offender Job Training and Placement; Updates on Mental Health Program Options, the NIC Strategic Plan, Interstate Compact Activities, Advisory Board Hearings; and Reports by Program Divisions Concerning Technical Assistance.

Contact Person for More Information: Larry Solomon, Deputy Director, (202) 307-3106, ext. 155.

Morris L. Thigpen,
Director.

[FR Doc. 00-10480 Filed 4-26-00; 8:45 am]

BILLING CODE 4410-36-M